DEPARTMENT OF COMMERCE

International Trade Administration

Application for Duty-Free Entry of Scientific Instruments

Pursuant to Section 6(c) of the Educational, Scientific and Cultural Materials Importation Act of 1966 (Pub. L. 89-651; as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce 14th and Constitution Ave., NW, Room 2104 Washington, D.C. 20230. Applications may be examined between 8:30 a.m. and 5 p.m. in Room 2104, U.S. Department of Commerce.

Docket Number: 08-008. Applicant: Rice University, 6100 Main Street, Houston, TX 77005. Instrument: Low Temperature Microscopy Scanning Probe. Manufacturer: Nano Magnetics Instruments, Ltd., Turkey. Intended Use: The instrument is intended to be used for imaging local magnetic field and change current distribution in semiconductor nanostructures. An essential feature of this instrument is that can supply 300mK scanning Hall probe microscopy with 50 NM special resolution. Application accepted by Commissioner of Customs: March 12, 2008.

Docket Number: 08-009. Applicant: University of Michigan, Department of Materials Science and Engineering, 2300 Hayward St., Ann Arbor, MI 48109-2136. Instrument: Heating Microscope Optical Dilatometer. Manufacturer: Expert System Solutions, Italy. Intended Use: This instrument will be used in a Defense Advanced Research Projects Agency (DARPA)-funded project on Direct Digital Manufacturing of Airfoils. The objective is to create a low-cost highly accurate method for manufacture of jet turbine engine airfoils for military aircraft. The Heating Microscope Optical Dilatometer hardware and software will be used for sintering shrinkage up to 1600 degrees centigrade, thermal expansion down to room temperature and cristobalite transformation at 215 degrees centigrade. An essential feature of the equipment is that it perform a non-contact optical measurement. Application accepted by Commissioner of Customs: March 14, 2008.

Dated: March 28, 2008.
Faye Robinson,
Director, Statutory Import Programs Staff, Import Administration.

[FR Doc. E8-6949 Filed 4-2-08; 8:45 am]

BILLING CODE 3510-DS-S